DEPARTMENT OF COMMERCE

International Trade Administration

Proposed Information Collection; Comment Request; Advocacy Questionnaire

AGENCY: International Trade Administration.

ACTION: Notice.

SUMMARY: The Department of Commerce, as part of its continuing effort to reduce paperwork and respondent burden, invites the general public and other Federal agencies to take this opportunity to comment on proposed and/or continuing information collections, as required by the Paperwork Reduction Act of 1995.

DATES: Written comments must be submitted on or before August 25, 2009.

ADDRESSES: Direct all written comments to Diana Hynek, Departmental Paperwork Clearance Officer, Department of Commerce, Room 7845, 14th and Constitution Avenue, NW., Washington, DC 20230 (or via the Internet at dHynek@doc.gov).

FOR FURTHER INFORMATION CONTACT: Requests for additional information or copies of the information collection instrument and instructions should be directed to Sherry Lewis-Khanna, 202 482-4519, Sherry.Lewis-Khanna@mail.doc.gov, Fax: 202-501-2895.

SUPPLEMENTARY INFORMATION:

I. Abstract

The International Trade Administration's (ITA) Advocacy Center marshals federal resources to assist U.S. firms competing for foreign government procurements worldwide. The Advocacy Center works closely with the Trade Promotion Coordination Committee, which is chaired by the Secretary of Commerce, and includes 19 federal agencies involved in Export Promotion. Advocacy assistance is wide and varied, but most often it is used to assist U.S. companies that must deal with foreign governments or government-owned entities to win or maintain business transactions in foreign markets. The Advocacy Center's goal is to ensure opportunities for American companies in the international marketplace.

The purpose of the Advocacy questionnaire is to collect the information necessary to evaluate whether it would be appropriate to provide U.S. Government (USG) advocacy assistance on a given transaction. The Advocacy Center, appropriate ITA officials, officers/Ambassadors at U.S. Embassies/Consulates worldwide and other federal agencies that provide advocacy support to U.S. companies, request companies seeking USG advocacy support to complete the questionnaire. The information derived from a completed questionnaire is critical in helping the Advocacy Center determine whether it is in the U.S. national interest to advocate on a specific transaction.

II. Method of Collection

Information will be collected by paper format and electronically.

III. Data

OMB Control Number: 0625-0220.

Form Number(s): ITA-4133P.

Type of Review: Regular submission.

Affected Public: Business or other for-profit organizations.

Estimated Number of Respondents: 400.

Estimated Time per Response: 30 minutes.

Estimated Total Annual Burden Hours: 200.

Estimated Total Annual Cost to Public: $0.

IV. Request for Comments

Comments are invited on: (a) Whether the proposed collection of information is necessary for the proper performance of the functions of the agency, including whether the information shall have practical utility; (b) the accuracy of the agency's estimate of the burden (including hours and cost) of the proposed collection of information; (c) ways to enhance the quality, utility, and clarity of the information to be collected; and (d) ways to minimize the burden of the collection of information on respondents, including through the use of automated collection techniques or other forms of information technology.

Comments submitted in response to this notice will be summarized and/or included in the request for OMB approval of this information collection; they also will become a matter of public record.

Dated: June 23, 2009.
Gwellnar Banks,
Management Analyst, Office of the Chief Information Officer.

[FR Doc. E9-15163 Filed 6-25-09; 8:45 am]

BILLING CODE 3510-FP-P